NATIONAL AERONAUTICS AND SPACE ADMINISTRATION

[Notice: (18-085)]

NASA Advisory Council; Regulatory and Policy Committee; Meeting

AGENCY: National Aeronautics and Space Administration.

ACTION: Notice of meeting.

SUMMARY: In accordance with the Federal Advisory Committee Act, as amended, the National Aeronautics and Space Administration (NASA) announces the first meeting of the Regulatory and Policy Committee of the NASA Advisory Council. This Committee reports to the NAC.

DATES: Friday, November 16, 2018, from 2:00-5:00 p.m., Eastern Time.

ADDRESSES: NASA Headquarters, Program Review Center (PRC), Room 9H40, 300 E Street SW, Washington, DC 20546.

FOR FURTHER INFORMATION CONTACT: Mr. Andrew Rowe, Designated Federal Officer, Office of Legislative and Intergovernmental Affairs, NASA Headquarters, Washington, DC 20546, (202) 358-4269 or andrew.rowe@nasa.gov.

SUPPLEMENTARY INFORMATION: This meeting will be open to the public up to the capacity of the meeting room. This meeting is also available telephonically and by WebEx. You must use a touch-tone phone to participate in this meeting. Any interested person may dial the toll number 1-415-228-4998 or toll free number 1-888-810-9156 and then the numeric passcode 9872135, followed by the # sign, on both days. NOTE: If dialing in, please “mute” your phone. To join via WebEx, the link is https://nasaenterprise.webex.com/. The meeting number is 906 737 987 and the meeting password is 2wMGyBh@ (case sensitive).

The agenda for the meeting will include:

—Export Control Issues

—Intellectual Property Waivers

—Stimulating Commercial Activities on the International Space Station

—Leveraging Excess Commercial Crew Seats to Support Private Sector Habitats and Free-Flying Commercial Space Station Development and Utilization

—Use of the NASA Logo

—Branding and Endorsements Review

Attendees will be requested to sign a register and to comply with NASA Headquarters security requirements, including the presentation of a valid picture ID to NASA Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees that are U.S. citizens and Permanent Residents (green card holders) are requested to provide full name and citizenship status no less than 3 working days prior to the meeting. Information should be sent to Mr. Andrew Rowe, at andrew.rowe@nasa.gov.

Patricia Rausch,
Advisory Committee Management Officer, National Aeronautics and Space Administration.

[FR Doc. 2018-23724 Filed 10-30-18; 8:45 am]

BILLING CODE 7510-13-P